DEPARTMENT OF DEFENSE

Department of the Army

Surplus Properties; Notice

AGENCY: Department of the Army, DoD.

ACTION: Notice.

SUMMARY: This amended notice provides information regarding the properties that have been determined surplus to the requirements of the United States in accordance with the Defense Base Closure and Realignment Act of 1990, Public Law 101-510, as amended, and following screening with Federal agencies and Department of Defense components. This Notice amends the Notice published in the Federal Register on June 25, 1996.

DATES: Applicable January 17, 2018.

FOR FURTHER INFORMATION CONTACT: Headquarters, Department of the Army, Assistant Chief of Staff for Installation Management, Base Realignment and Closure (BRAC) Division, Attn: DAIM-ODB, 600 Army Pentagon, Washington DC 20310-0600, (703) 545-2487, usarmy.pentagon.hqda-acsim.mbx.braco-webmaster@mail.mil. For information regarding the specific property subject to this notice, a point of contact is provided below.

SUPPLEMENTARY INFORMATION: Under the provisions of Codifying Title 40, United States Code—Public Buildings, Property, and Works Act of 2002 (Pub. L. 107-217, 40 U.S.C. 101, et seq., as amended), section 2905(b) of the Defense Base Closure and Realignment Act of 1990 (Pub. L. 101-510; 10 U.S.C. 2687 note), and other public benefit conveyance authorities, this surplus property may be available for conveyance to State and local governments and other eligible entities for public benefit purposes. The Jo-Carroll Depot Local Redevelopment Authority has been recognized by Department of Defense as the Local Redevelopment Authority (LRA) for this surplus property. Notices of interest from representatives of the homeless, and other interested parties located in the vicinity of the listed surplus property should be submitted to the Jo-Carroll Depot Local Redevelopment Authority. The LRA's Point of Contact is Ms. Mara Roche, Executive Director, Jo-Carroll Depot Local Redevelopment Authority. The LRA is located at 18901 B Street, Savanna, Illinois 61074, telephone (815) 599-1818. Notices of interest from representatives of the homeless shall include the information required by 32 CFR 176.20(c)(2)(ii). The Jo-Carroll Depot Local Redevelopment Authority will assist interested parties in evaluating the surplus property for the intended use. The deadline for notices of interest shall be 90 days from the date the LRA publishes a corresponding notice in a newspaper of general circulation in the vicinity of the surplus property.

Surplus Property List

Addition

Savanna, Illinois

Savanna Army Depot, Illinois, a portion of, comprising approximately 132.2 acres. Additional information for this surplus property can be found at http://www.hqda.pentagon.mil/acsimweb/brac/sites.html?state=IL?brac=1995?site=IL_SavannaAD_1995

The Army's Point of Contact for this surplus property is Mr. George Triggs, Realty Specialist, Louisville District, U.S. Army Corps of Engineers, telephone (502) 315-7014, email: George.S.Triggs@usace.army.mil.

Authority: This action is authorized by the Defense Base Closure and Realignment Act of 1990 (Pub. L. 101-510; 10 U.S.C. 2687 note).

Dated: January 5, 2018.
Paul D. Cramer,
Deputy Assistant Secretary of the Army (Installations, Housing & Partnerships).

[FR Doc. 2018-00668 Filed 1-16-18; 8:45 am]

BILLING CODE 5001-03-P